CIVIL RIGHTS COMMISSION

Sunshine Act Meeting

AGENCY: United States Commission on Civil Rights.

ACTION: Notice of Commission public business meeting.

DATES: Thursday, December 5, 2019, 10:00 a.m. ET.

ADDRESSES: Place: National Place Building, 1331 Pennsylvania Ave. NW, 11th Floor, Suite 1150, Washington, DC 20425. (Entrance on F Street NW.)

FOR FURTHER INFORMATION CONTACT: Brian Walch: (202) 376-8371; TTY: (202) 376-8116; publicaffairs@usccr.gov.

SUPPLEMENTARY INFORMATION: This business meeting is open to the public.

There will also be a call-in line for individuals who desire to listen to the meeting and presentations: 877-211-3430, Conference ID 1287319. The meeting will live-stream at: https://www.youtube.com/user/USCCR/videos. (Subject to change.) Persons with disabilities who need accommodation should contact Pamela Dunston at (202) 376-8105 or at access@usccr.gov at least seven (7) business days before the scheduled date of the meeting.

Meeting Agenda

I. Approval of Agenda

II. Business Meeting

A. Discussion and vote on the Commission's report, Federal #MeToo: Examining Sexual Harassment in Government Workplaces.

B. Discussion and vote on Commission 2020 briefing dates.

C. Management and Operations.

• Staff Director's Report.

III. Adjourn Meeting.

Dated: November 26, 2019.
David Mussatt,
Supervisory Chief, Regional Programs Unit.

[FR Doc. 2019-26064 Filed 11-26-19; 4:15 pm]

BILLING CODE 6335-01-P